DEPARTMENT OF COMMERCE

Submission for OMB Review; Comment Request

DOC has submitted to the Office of Management and Budget (OMB) for Clearance the following proposal for collection of information under the provisions of the Paperwork Reduction Act (44 U.S.C. chapter 35).

Agency: U.S. Census Bureau.

Title: Annual Capital Expenditures Survey.

Form Number(s): ACE-1(S), ACE-1(M), ACE-1(Long), ACE-2.

Agency Approval Number: 0607-0782.

Type of Request: Revision of a currently approved collection.

Burden: 145,000 hours.

Number of Respondents: 61,000.

Avg. Hours Per Response: 2 hours and 23 minutes.

Needs and Uses: Data on the amount of business expenditures for new plant and equipment and measures of the stock of existing facilities are critical to evaluate productivity growth, the ability of U.S. business to compete with foreign business, changes in industrial capacity, and measures of overall economic performance. The ACES is the current source of comprehensive statistics on business investment in buildings and other structures, machinery, and equipment for private non-farm businesses in the United States.

The plan for the continued survey is a basic annual survey that collects fixed assets and depreciation, sales and receipts, and total capital expenditures for new and used structures and equipment separately, from employer enterprises. This collection is intended to represent the capital expenditure activity of all employer firms and provide comprehensive control estimates of total capital expenditures for structures and equipment by industry. A mail out/mail back survey form will be used to collect data. Employer companies will be mailed one of three forms based on their diversity of operations and number of industries with payroll. Major planned revisions from the previously approved collection are the elimination of the separate question on the amount of capitalized interest incurred during the year to produce or construct assets reported as capital expenditures; and, the addition of a request for data on capitalized costs of computer software developed or obtained for internal use.

The ACES is an integral part of the Federal Government statistical program to improve and supplement ongoing statistical programs. Federal Government agencies, including the Census Bureau, use the data to improve and supplement ongoing statistical programs.

Affected Public: Business or other for-profit, not-for-profit institutions.

Frequency: Annually.

Respondent's Obligation: Mandatory.

Legal Authority: Title 13 U.S.C., Sections 182, 224, and 225.

OMB Desk Officer: Susan Schechter, (202) 395-5103.

Copies of the above information collection proposal can be obtained by calling or writing Diana Hynek, Departmental Paperwork Clearance Officer, (202) 482-0266, Department of Commerce, room 6625, 14th and Constitution Avenue, NW., Washington, DC 20230 (or via the Internet at dhynek@doc.gov).

Written comments and recommendations for the proposed information collection should be sent within 30 days of publication of this notice to Susan Schechter, OMB Desk Officer either by fax (202) 395-7245) or e-mail (susan_schechter@omb.eop.gov).

Dated: November 8, 2002.
Madeleine Clayton,
Management Analyst, Office of the Chief Information Officer.

[FR Doc. 02-28912 Filed 11-13-02; 8:45 am]

BILLING CODE 3510-7-P